DEPARTMENT OF STATE

[Public Notice 5728]

Shipping Coordinating Committee; Notice of Meeting

The Shipping Coordinating Committee (SHC) will conduct an open meeting at 9:30 a.m. on Thursday, April 5, 2007, in Room 6103 of the United States Coast Guard Headquarters Building, 2100 Second Street, SW., Washington, DC 20593-0001. The primary purpose of the meeting is to prepare for the 11th session of the International Maritime Organization's Sub-Committee on Bulk Liquids and Gases (BLG) to be held at the Royal Horticultural Halls and Conference Centre, 80 Vincent Square, London, England from April 16th to April 20th, 2007.

The primary matters to be considered include:

—Evaluation of safety and pollution hazards of chemicals and preparation of consequential amendments

—Development of guidelines for uniform implementation of the 2004 Ballast Water Management Convention

—Review of MARPOL Annex VI and the NOX Technical Code

—Development of provisions for gas-fuelled ships

—Amendments to MARPOL Annex I for the prevention of marine pollution during oil transfer operations between ships at sea

—Oil tagging systems

—Guidelines on other technological methods verifiable or enforceable to limit SOx emissions

—Application of requirements for the carriage of bio-fuels and bio-fuel blends

—Consideration of IACS unified interpretations

—Casualty analysis

—Work program and agenda for BLG 12

Hard copies of documents associated with the 11th session of BLG will be available at this meeting. To request further copies of documents please write to the address provided below.

Members of the public may attend this meeting up to the seating capacity of the room. Interested persons may seek information by writing to Mr. Thomas Felleisen, Commandant (CG-3PSO-3), U.S. Coast Guard Headquarters, 2100 Second Street, SW., Room 1214, Washington, DC 20593-0001 or by calling (202) 372-1424.

Dated: 16 March 2007.
Michael E. Tousley,
Executive Secretary, Shipping Coordinating Committee, Department of State.

[FR Doc. E7-5252 Filed 3-21-07; 8:45 am]

BILLING CODE 4710-09-P